DEPARTMENT OF COMMERCE

Technology Administration

Technology Administration Performance Review Board Membership—September 2000

The Technology Administration Performance Review Board reviews performance appraisals, agreements, and recommended actions pertaining to employees in the Senior Executive Service and reviews performance-related pay increases for ST-3104 employees. The Board makes recommendations to the appropriate appointing authority concerning such matters so as to ensure the fair and equitable treatment of these individuals.

The following is the full membership of the Board:

Cathleen Campbell (C), Director of International Technology, Policy and Programs, Technology Administration, Washington, DC 20230. Appointment Expires: 12/31/02.

Gordon W. Day (C), Chief, Optoelectronics Division, Optoelectronics Division (815), National Institute of Standards & Technology, Boulder, CO 80303. Appointment Expires: 12/31/01.

Dale E. Hall (C), Deputy Director, National Institute of Standards & Technology, Gaithersburg, MD 20899. Appointment Expires: 12/31/01.

Marilia A. Matos (C), Deputy Director for Management Services, Director of Administration and Chief Financial Officer, National Institute of Standards and Technology, Gaithersburg, MD 20899. Appointment Expires: 12/31/01.

Henry Misisco (C), Director, Office of Automotive Affairs, Trade Development, International Trade Administration, Washington, DC 20230. Appointment Expires: 12/31/02.

Alan Neuschatz (C), Deputy Director, National Technical Information Service, Springfield, VA 22161. Appointment Expires: 12/31/01.

Dennis Swyt (C), Chief, Precision Engineering Division, Manufacturing Engineering Laboratory, National Institute of Standards & Technology, Gaithersburg, MD 20899-8210. Appointment Expires: 12/31/02.

Barry N. Taylor (C), Manager, Fundamental Constants Data Center, Physics Laboratory Office, National Institute of Standards & Technology, Gaithersburg, MD 20899. Appointment Expires: 12/31/00.

Cynthia Clark (C), Associate Director for Methodology & Standards, Census Bureau, Washington, DC 20233. Appointment Expires: 12/31/01.

Susan Zevin (C), Deputy Director, Information Technology Laboratory, National Institute of Standards and Technology, Gaithersburg, MD 20899-8900. Appointment Expires: 12/31/02.

Cheryl L. Shavers,
Under Secretary of Commerce for Technology, Technology Administration, Department of Commerce.

[FR Doc. 00-20230 Filed 8-9-00; 8:45 am]

BILLING CODE 3510-18-P